DEPARTMENT OF ENERGY

Federal Energy Regulatory Commission

Meeting Related to the Transmission Planning Activities of the Southwest Power Pool, Inc.; Notice of Commission Staff Attendance

The Federal Energy Regulatory Commission hereby gives notice that members of the Commission's staff may attend the following meeting related to the transmission planning activities of the Southwest Power Pool, Inc. (SPP):

Strategic Planning Committee Task Force on Order 1000

April 25, 2012.

9 a.m.-3 p.m. Local Time.

The above-referenced meeting will be held at: OG&E Offices, 321 N. Harvey Avenue, Oklahoma City, OK 73101.

The above-referenced meeting is open to stakeholders.

Further information may be found at www.spp.org.

The discussions at the meetings described above may address matters at issue in the following proceedings:

Docket No. ER09-35-001, Tallgrass Transmission, LLC.

Docket No. ER09-36-001, Prairie Wind Transmission, LLC.

Docket No. ER09-548-001, ITC Great Plains, LLC.

Docket No. ER11-4105-000, Southwest Power Pool, Inc.

Docket No. EL11-34-001, Midwest Independent Transmission System Operator, Inc.

Docket No. ER11-3967-002, Southwest Power Pool, Inc.

Docket No. ER11-3967-003, Southwest Power Pool, Inc.

Docket No. ER12-1179-000, Southwest Power Pool, Inc.

For more information, contact Luciano Lima, Office of Energy Markets Regulation, Federal Energy Regulatory Commission at (202) 502-6210 or luciano.lima@ferc.gov.

Dated: April 20, 2012.
Nathaniel J. Davis, Sr.,
Deputy Secretary.

[FR Doc. 2012-10061 Filed 4-25-12; 8:45 am]

BILLING CODE 6717-01-P